OFFICE OF SCIENCE AND TECHNOLOGY POLICY

President's Council of Advisors on Science and Technology

Notice of Meeting: Open Regional Meeting of the President's Council of Advisors on Science and Technology, Working Group on Advanced Manufacturing.

ACTION: Public Notice.

SUMMARY: This notice sets forth the schedule and summary agenda for an open regional meeting of the President's Council of Advisors on Science and Technology (PCAST), Working Group on Advanced Manufacturing, and describes the functions of the Council and its Working Group.

DATES: November 28, 2011.

ADDRESSES: The meeting will be held at the Cambridge Marriott, Two Cambridge Center, 50 Broadway, Cambridge, MA 02142.

Type of Meeting: Open.

Proposed Schedule and Agenda: The President's Council of Advisors on Science and Technology (PCAST), Working Group on Advanced Manufacturing will hold a Northeast regional meeting at the Cambridge Marriott near the campus of the Massachusetts Institute of Technology (MIT) from 10 a.m. to 5:30 p.m. on November 28, 2011.

Advanced manufacturing will provide the basis for high-quality jobs for Americans and sustain U.S. competitiveness in the 21st century. To ensure that the United States attracts manufacturing activity and remains a leader in knowledge production, PCAST recommended in its June 2011 “Report to the President on Ensuring American Leadership in Advanced Manufacturing” that the Federal Government create a fertile environment for innovation and make investments to ensure that new technologies and design methodologies are developed in the United States, and that technology-based enterprises have the infrastructure to flourish here.

On the basis of that report, President Obama established PCAST's Advanced Manufacturing Partnership (AMP) Steering Committee to provide additional advice to the government on how to catalyze investment in and deployment of emerging technologies with the potential to transform U.S. manufacturing. In addition, the AMP Steering Committee is to identify the collaborative approaches needed to realize these opportunities. During this regional meeting, members of the public will have an opportunity to provide their thoughts on:

• Technology development;

• Education and workforce development;

• Facility and infrastructure sharing;

• Policies that could create a fertile innovation environment.

Please note that because PCAST operates under the provisions of FACA, all public comments and/or presentations will be treated as public documents and will be made available for public inspection, including being posted on the PCAST Web site.

FOR FURTHER INFORMATION CONTACT: Information regarding the meeting agenda, time, location, and how to register for the meeting is available at http://mit.edu/manufacturing/. For questions regarding the facility and location-focused questions, please send an email to amp-event-mit@mit.edu. Please note that public seating for this meeting is limited and is available on a first-come, first-served basis. Additional regional meetings are scheduled in Berkeley, California (December 5), and Ann Arbor, Michigan (December 12).

More information about AMP is available at: http://whitehouse.gov/ostp/pcast/amp and http://www.eere.energy.gov/amp. Questions about AMP should be directed to amp@ostp.gov. For those who would like to get involved in AMP, but are unable to attend the regional meetings, you may visit the section entitled “Get Involved” at http://www.eere.energy.gov/amp.

SUPPLEMENTARY INFORMATION: The President's Council of Advisors on Science and Technology (PCAST) is an advisory group of the nation's leading scientists and engineers, appointed by the President to augment the science and technology advice available to him from inside the White House and from cabinet departments and other Federal agencies. See the Executive Order at http://www.whitehouse.gov/ostp/pcast. PCAST is consulted about and provides analyses and recommendations concerning a wide range of issues where understandings from the domains of science, technology, and innovation may bear on the policy choices before the President. PCAST is administered by the Office of Science and Technology Policy (OSTP). PCAST is co-chaired by Dr. John P. Holdren, Assistant to the President for Science and Technology, and Director, Office of Science and Technology Policy, Executive Office of the President, The White House; and Dr. Eric S. Lander, President, Broad Institute of the Massachusetts Institute of Technology and Harvard.

Meeting Accommodations: Individuals requiring special accommodation to access this public meeting should email amp@ostp.gov at least ten business days prior to the meeting so that appropriate arrangements can be made.

Ted Wackler,
Deputy Chief of Staff.

[FR Doc. 2011-29429 Filed 11-14-11; 8:45 am]

BILLING CODE P